DEPARTMENT OF THE TREASURY

Internal Revenue Service

Open Meeting of the Taxpayer Advocacy Panel's Tax Forms and Publications Project Committee: Correction

AGENCY: Internal Revenue Service (IRS), Treasury.

ACTION: Notice of meeting: Correction.

SUMMARY: In the Federal Register notice that was originally published on March 4, 2019, (Volume 84, Number 42, Page 7418) the meeting will be in St. Louis, MO, on Central Standard Time.

DATES: The meeting will be held Monday, March 18, 2019 and Tuesday, March 19, 2019.

FOR FURTHER INFORMATION CONTACT: Robert Rosalia at 1-888-912-1227 or (718) 834-2203.

SUPPLEMENTARY INFORMATION: Notice is hereby given pursuant to Section 10(a)(2) of the Federal Advisory Committee Act, 5 U.S.C. App. (1988) that a meeting of the Taxpayer Advocacy Panel's Tax Forms and Publications Project Committee will be held Monday, March 18, 2019, from 1 p.m. to 5 p.m. Central Time and Tuesday, March 19, 2019, from 8:00 a.m. until 5:00 p.m. Central Time, in St. Louis, MO. The public is invited to make oral comments or submit written statements for consideration. Due to limited time and structure of meeting, notification of intent to participate must be made with Robert Rosalia. For more information please contact Robert Rosalia at 1-888-912-1227 or (718) 834-2203, or write TAP Office, 2 Metrotech Center, 100 Myrtle Avenue, Brooklyn, NY 11201 or contact us at the website: http://www.improveirs.org. The agenda will include various IRS issues.

Dated: March 6, 2019.
Kevin Brown,
Acting Director, Taxpayer Advocacy Panel.

[FR Doc. 2019-04417 Filed 3-11-19; 8:45 am]

BILLING CODE 4830-01-P